DEPARTMENT OF ENERGY

Federal Energy Regulatory Commission

[Docket No. CP17-470-000]

Freeport LNG Development, L.P.; Notice of Schedule for Environmental Review of the Train 4 Project

On June 29, 2017, Freeport LNG Development, L.P. (Freeport LNG) filed an application in Docket No. CP17-470-000 requesting an Authorization for siting, construction, and operation of a liquefied natural gas (LNG) facility pursuant to Section 3 of the Natural Gas Act. The proposed project is known as the Train 4 Project (Project), and would increase Freeport LNG's ability to liquefy and export by 5.1 million metric tonnes per annum of natural gas at the existing Freeport LNG terminal.

On July 14, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of the EA—November 2, 2018

90-day Federal Authorization Decision Deadline—January 31, 2019

If a schedule change becomes necessary, additional notice will be provided so that the relevant agencies are kept informed of the Project's progress.

Project Description

The Project would add a fourth liquefaction unit (Train 4) and associated infrastructure and utilities to Freeport LNG's terminal on Quintana Island in Brazoria County, Texas. The Project would also expand the Pretreatment Plant located about 4 miles north of the terminal in Freeport, Texas and includes a new pipeline to connect various facilities. The Project would be located adjacent to the facilities authorized and currently under construction for the Phase II Modification Project (Docket No. CP12-29-000) and Liquefaction Project (Docket No. CP12-509-000), which comprises three liquefaction trains and related facilities. The proposed fourth liquefaction train would be within the existing Freeport LNG Terminal site and the additions to the Pretreatment Plant would be within the current construction footprint. The proposed 10.6-mile-long, 42-inch-diameter pipeline would connect the existing Stratton Ridge meter station, the Pretreatment Plant, and the Freeport LNG Liquefaction Plant.

Background

On August 19, 2015 the Commission issued a Notice of Intent to Prepare an Environmental Assessment for the Planned Train 4 Project and Request for Comments on Environmental Issues (NOI). A subsequent change to the Project resulted in the Commission issuing the Supplemental Notice of Intent to Prepare an Environmental Assessment for the Planned Freeport LNG Train 4 Project and Request for Comments on Environmental Issues (Supplemental NOI) on August 31, 2016. The NOI and the Supplemental NOI were issued during the pre-filing review of the Project in Docket No. PF15-25-000 and were sent to affected landowners; federal, state, and local government agencies; elected officials; environmental and public interest groups; Native American tribes; other interested parties; and local libraries and newspapers. In response to the NOI and Supplemental NOI; the Commission received comments from the Federal Emergency Management Agency, U.S. Environmental Protection Agency, Texas Historical Commission, U.S. Fish and Wildlife Service, Texas Parks and Wildlife, Sierra Club, and eight members of the public. The primary issues raised by the commentors are alternative pipeline routes, and impacts on land use, wetlands, protected species, visual landscape, noise environment, air quality, road traffic, marine traffic, and safety.

The U.S. Department of Transportation, U.S. Environmental Protection Agency, and U.S. Department of Energy are cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP17-470), and follow the instructions. For assistance with access to eLibrary, the helpline can be reached at (866) 208-3676, TTY (202) 502-8659, or at FERCOnlineSupport@ferc.gov.

The eLibrary link on the FERC website also provides access to the texts of formal documents issued by the Commission, such as orders, notices, and rule makings.

Dated: August 31, 2018.
Nathaniel J. Davis, Sr.,
Deputy Secretary.

[FR Doc. 2018-19402 Filed 9-6-18; 8:45 am]

BILLING CODE 6717-01-P